DEPARTMENT OF LABOR

Employment and Training Administration

Notice of Renewal of the Native American Employment and Training Council (NAETC) Charter

AGENCY: Employment and Training Administration, Labor.

ACTION: Notice of Renewal of the Native American Employment and Training Council (NAETC) Charter.

SUMMARY: Notice is hereby given of the renewal of the Workforce Investment Act (WIA), Section 166 Indian and Native American program Charter that is necessary and in the public interest. Accordingly, the U.S. Department of Labor (DOL), the Employment and Training Administration has renewed the NAETC Charter for two years and has made changes to the terms of members.

SUPPLEMENTARY INFORMATION: Background: Pursuant to WIA Section 166(4)(C), the NAETC advises the Secretary on all aspects of the operation and administration of the Native American programs authorized under Section 166 of WIA. In addition, the Council advises the Secretary on matters that promote the employment and training needs of Indian and Native Americans, as well as enhance the quality of life in accordance with the Indian Self-Determination Act and Education Assistance Act. The Council shall also provide guidance to the Secretary on ways for Indian, Alaska Natives, and Native Hawaiians to successfully access and obtain DOL discretionary funding and participate in special initiatives.

The charter is required to be renewed every two years; the current charter expired on June 26, 2009. The NAETC recommendations and accomplishments have and continue to assist ETA and the Secretary to transform and expand the apprenticeship model. The current charter is being renewed with changes to the terms of members.

Summary of Revisions: The charter is amended to state that “appointments shall remain effective until a replacement is designated by the Secretary in writing.” However, all council members shall serve at the pleasure of the Secretary and members may be appointed, reappointed, and/or replaced, and their terms may be extended, changed, or terminated at the Secretary discretion.

FOR FURTHER INFORMATION CONTACT: Mrs. Evangeline M. Campbell, Designated Federal Officer, Office of Workforce Investment, Employment and Training Administration, U.S. Department of Labor, Room S-4209, 200 Constitution Avenue, NW., Washington, DC 20210. Telephone: (202) 693-3737, (this is not a toll-free number).

Signed at Washington, DC this 13th day of July 2009.
Jane Oates,
Assistant Secretary, Employment and Training Administration.

[FR Doc. E9-17411 Filed 7-21-09; 8:45 am]

BILLING CODE 4510-FR-P